DEPARTMENT OF COMMERCE

Foreign-Trade Zones Board

[Docket 54-2000]

Foreign-Trade Zone 8—Toledo, Ohio Area Application for Expansion

An application has been submitted to the Foreign-Trade Zones (FTZ) Board (the Board) by the Toledo-Lucas County Port Authority, grantee of Foreign-Trade Zone 8, requesting authority to expand its zone in the Toledo, Ohio area, within the Toledo/Sandusky Customs port of entry. The application was submitted pursuant to the provisions of the Foreign-Trade Zones Act, as amended (19 U.S.C. 81a-81u), and the regulations of the Board (15 CFR part 400). It was formally filed on September 19, 2000.

FTZ 8 was approved on October 11, 1960 (Board Order 51, 25 FR 9909, 10/15/60) and expanded on January 22, 1973 (Board Order 92, 38 FR 3015, 1/31/73); January 11, 1985 (Board Order 277, 50 FR 2702,1/18/85); August 19, 1991 (Board Order 532, 56 FR 42026, 8/26/91); and June 12, 2000 (Board Order 1102, 65 FR 37960, 6/19/00). The general-purpose zone currently consists of 3 sites (497 acres) in the Toledo area: Site 1 (150 acres)—within the Port of Toledo complex at the Overseas Cargo Center, Toledo; Site 2 (337 acres)—at the Toledo Express Airport, in Swanton, Ohio, some 5 miles west of Toledo; and, Site 3 (10 acres)—at the First Choice Packaging warehouse facility, 1501 West State Street, Fremont.

The applicant is now requesting authority to expand the general-purpose zone to include an additional site: Proposed Site 4 (471 acres)—Cedar Point Development Park and adjacent areas, east of Lallendorf Road, south of Cedar Point Road and west of Wynn Road, Oregon. The site is owned primarily by the City of Oregon, the Oregon on the Bay Economic Development Foundation and several private owners. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is November 27, 2000. Rebuttal comments in response to material submitted during the foregoing period may be submitted during the subsequent 15-day period (to December 11, 2000).

A copy of the application and accompanying exhibits will be available for public inspection at each of the following locations: U.S. Department of Commerce, Export Assistance Center, 300 Madison Avenue, Suite 270, Toledo, OH 43604; Office of the Executive Secretary, Foreign-Trade Zones Board, Room 4008, U.S. Department of Commerce 14th & Pennsylvania Avenue, NW, Washington, DC 20230.

Dated: September 20, 2000.
Dennis Puccinelli,
Executive Secretary.

[FR Doc. 00-24849 Filed 9-26-00; 8:45 am]

BILLING CODE 3510-DS-U